Title 3—

The President

Proclamation 7997 of April 5, 2006

Education and Sharing Day, U.S.A., 2006

By the President of the United States of America

A Proclamation

A quality education is the cornerstone of a hopeful tomorrow for all our children. Education and Sharing Day highlights our strong support for our young people as they pursue lives of learning, prepare to become responsible leaders, and work to reach their full potential.

On Education and Sharing Day, we remember the efforts of Rabbi Menachem Mendel Schneerson, the Lubavitcher Rebbe, who promoted the importance of education and ethical teachings to every student's future. He sought to improve lives and communities through a vast network of education and outreach centers and social service programs around the world. We continue to be inspired by the Rebbe's good works and all those who dedicate their time, talents, and energy to helping our next generation grow into caring, responsible adults. Through devotion to faith, family, education, and community, we can continue building a better and more compassionate society.

NOW, THEREFORE, I, GEORGE W. BUSH, President of the United States of America, by virtue of the authority vested in me by the Constitution and the laws of the United States, do hereby proclaim April 9, 2006, as Education and Sharing Day, U.S.A. I call upon government officials, educators, volunteers, and all the people of the United States to reach out to young people and work to create a better, brighter, and more hopeful future for all.

IN WITNESS WHEREOF, I have hereunto set my hand this fifth day of April, in the year of our Lord two thousand six, and of the Independence of the United States of America the two hundred and thirtieth.

B

[FR Doc. 06-3475

Filed 4-7-06; 8:47 am]

Billing code 3195-01-P